DEPARTMENT OF COMMERCE

National Oceanic and Atmospheric Administration

[I.D. 071101B]

Proposed Information Collection; Comment Request; Prohibited Species Donation Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 17, 2001.

ADDRESSES: Direct all written comments to Madeleine Clayton, Departmental Paperwork Clearance Officer, Department of Commerce, Room 6086, 14th and Constitution Avenue NW, Washington DC 20230 (or via the Internet at MClayton@doc.gov).

FOR FURTHER INFORMATION CONTACT: Requests for additional information or copies of the information collection instrument(s) and instructions should be directed to Patsy A. Bearden, F/AKR2, P.O. BOX 21668, Juneau, AK 99802-1668 (phone 907-586-7008).

SUPPLEMENTARY INFORMATION:

I. Abstract

Certain incidental catch of fish cannot be retained by fishing vessels due to management controls, and such prohibited species are usually discarded. Under a NOAA program these fish may be donated to certain tax-exempt groups for distribution to needy individuals. Documentation is necessary to ensure that donations go to authorized parties for legitimate purposes.

II. Method of Collection

The information is submitted to respond to requirements set forth in a regulation. There are also documentation and labeling requirements.

III. Data

OMB Number: 0648-0316.

Form Number: None.

Type of Review: Regular submission.

Affected Public: Not-for-profit institutions, business and other for-profit organizations.

Estimated Number of Respondents: 79.

Estimated Time Per Response: 40 hours for an application, 40 hours for documentation by a distributor, 6 minutes for labeling and product tracking of a shipment by a vessel or processor, and 15 minutes to provide documentation on a vessel or processor.

Estimated Total Annual Burden Hours: 152.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 10, 2001.
Madeleine Clayton,
Departmental Paperwork Clearance Officer, Office of the Chief Information Officer.

[FR Doc. 01-17852 Filed 7-17-01; 8:45 am]

BILLING CODE 3510-22-S